DEPARTMENT OF DEFENSE

Department of Navy

Notice of Intent To Grant an Exclusive License; Radco Industries, Inc.

AGENCY: Department of the Navy, DoD.

ACTION: Notice of intent to grant license.

SUMMARY: The Department of the Navy hereby gives notice of its intent to grant to Radco Industries, Inc., 700 Kingsland Drive, Batavia, IL 60510, a revocable, nonassignable, exclusive license to practice the Government-Owned invention described in U.S. Patent number 8,865,636 entitled “Paint Stripping Compositions” inventors Han et al.

ADDRESSES: Written objections are to be filed with the Naval Air Warfare Center Aircraft Division, Technology Transfer Office, Attention Michelle Miedzinski, Code 5.0H, 22347 Cedar Point Road, Building 2185, Box 62, Room 2160, Patuxent River, Maryland 20670. File an electronic copy of objection with michelle.miedzinski@navy.mil.

DATES: Anyone wishing to object to the grant of this license has fifteen (15) days from the publication date of this notice to file written objections along with supporting evidence, if any.

FOR FUTHER INFORMATION CONTACT: Michelle Miedzinski, 301-342-1133, Naval Air Warfare Center Aircraft Division, 22347 Cedar Point Road, Building 2185, Box 62, Room 2160, Patuxent River, Maryland 20670, michelle.miedzinski@navy.mil.

Authority: 35 U.S.C. 207, 37 CFR part 404.

Dated: September 26, 2017.
A.M. Nichols,
Lieutenant Commander, Judge Advocate General's Corps, U.S. Navy, Federal Register Liaison Officer.

[FR Doc. 2017-21107 Filed 9-29-17; 8:45 am]

BILLING CODE 3810-FF-P